ENVIRONMENTAL PROTECTION AGENCY

40 CFR Part 745

[EPA-HQ-OPPT-2005-0049; FRL-7762-7]

RIN 2070-AC83

Lead; Renovation, Repair, and Painting Program; Availability of Supplemental Information

AGENCY: Environmental Protection Agency (EPA).

ACTION: Proposed rule; availability of supplemental information.

SUMMARY: On January 10, 2006, EPA proposed new requirements to reduce exposure to lead hazards created by renovation, repair, and painting activities that disturb lead-based paint. The proposal supports the attainment of the Federal government's goal of eliminating childhood lead poisoning by 2010. The proposal discussed requirements for training renovators and dust sampling technicians; certifying renovators, dust sampling technicians, and renovation firms; accrediting providers of renovation and dust sampling technician training; and for renovation work practices. EPA developed a draft analysis of the potential costs and benefits associated with this proposed rulemaking and included it in the docket for the proposed rule. With this document, EPA is announcing the availability of a revised economic analysis in the rulemaking docket. Comments on the revised economic analysis should be submitted to the docket for the proposed rule and must be received on or before April 10, 2006.

DATES: Comments must be received on or before April 10, 2006.

ADDRESSES: Submit your comments, identified by docket identification (ID) no. EPA-HQ-OPPT-2005-0049, by one of the following methods.

• http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO, EPA East Bldg., Rm. 6428, 1201 Constitution Ave., NW., Washington, DC. Attention: Docket ID number EPA-HQ-OPPT-2005-0049. The DCO is open from 8 a.m. to 4 p.m., Monday through Friday, excluding legal holidays. The telephone number for the DCO is (202) 564-8930. Such deliveries are only accepted during the Docket's normal hours of operation, and special arrangements should be made for deliveries of boxed information.

Instructions: Direct your comments to docket ID number EPA-HQ-OPPT-2005-0049. EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses.

Docket: All documents in the docket are listed in the regulations.gov index. Although listed in the index, some information is not publicly available, i.e., CBI or other information whose disclosure is restricted by statute. Certain other material, such as copyrighted material, is not placed on the Internet and will be publicly available only in hard copy form. Publicly available docket materials are available electronically through regulations.gov or in hard copy at the OPPT Docket, EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address:TSCA-Hotline@epa.gov.

For technical information contact: Mike Wilson, National Program Chemicals Division (7404T), Office of Pollution Prevention and Toxics, Environmental Protection Agency, 1200 Pennsylvania Ave., NW., Washington, DC 20460-0001; telephone number: (202) 566-0521; e-mail address:wilson.mike@epa.gov.

SUPPLEMENTARY INFORMATION:

I. General Information

A. Does this Action Apply to Me?

This action is directed to the public in general. This action may be of particular interest to anyone who performs renovations of target housing for compensation or dust sampling. Potentially affected entities may include, but are not limited to:

• Building construction (NAICS 236), e.g., single family housing construction, multi-family housing construction, residential remodelers.

• Specialty trade contractors (NAICS 238), e.g., plumbing, heating, and air-conditioning contractors, painting and wall covering contractors, electrical contractors, finish carpentry contractors, drywall and insulation contractors, siding contractors, tile and terrazzo contractors, glass and glazing contractors.

• Real estate (NAICS 531), e.g., lessors of residential buildings and dwellings, residential property managers.

• Other technical and trade schools (NAICS 611519), e.g., training providers.

• Engineering services (NAICS 541330) and building inspection services (NAICS 541350), e.g., dust sampling technicians.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in the regulatory text at § 745.82 of the proposed rule. If you have any questions regarding the applicability of this action to a particular entity, consult the technical person listed under FOR FURTHER INFORMATION CONTACT.

B. What Should I Consider as I Prepare My Comments for EPA?

1. Submitting CBI. Do not submit this information to EPA through regulations.gov or e-mail. Clearly mark the part or all of the information that you claim to be CBI. For CBI information in a disk or CD ROM that you mail to EPA, mark the outside of the disk or CD ROM as CBI and then identify electronically within the disk or CD ROM the specific information that is claimed CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at the estimate.

vi. Provide specific examples to illustrate your concerns, and suggested alternatives.

vii. Explain your views as clearly as possible, avoiding the use of profanity or personal threats.

viii. Make sure to submit your comments by the comment period deadline identified.

II. What Action is the Agency Taking?

In the Federal Register of January 10, 2006 (71 FR 1588) (FRL-7755-5), EPA proposed new requirements to reduce exposure to lead hazards created by renovation, repair, and painting activities that disturb lead-based paint. Pursuant to Executive Order 12866, EPA submitted to the Office of Management and Budget (OMB) a draft analysis of the potential costs and benefits associated with the proposed rulemaking. The draft analysis was contained in a document titled Draft Economic Analysis for the Renovation, Repair, and Painting Program Proposed Rule (Draft Economic Analysis). The Agency has since completed a revised economic analysis. As discussed in the proposed rule, the revised economic analysis was conducted using other assumptions for baseline activities as well as further enhancements to the analysis. Accordingly, the revised economic analysis contains the Agency's updated estimate of the potential costs and benefits of the proposed rule. In addition, the revised economic analysis also supplements the Agency's analysis of potentially adverse economic impacts on small entities as part of the initial regulatory flexibility analysis prepared pursuant to the Regulatory Flexibility Act, 5 U.S.C. 601et seq. The revised economic analysis serves other important purposes as well. It presents analyses that report the impact of the proposed rule on the paperwork burden, the financial condition of small entities, whether the regulation has a disproportionate effect on low-income and or minority persons, and the environmental health risk or safety risk to children due to the regulation. It specifically responds to the Unfunded Mandates Reform Act, and the National Technology Transfer and Advancement Act, as well as to Executive Orders 13132 (Federalism), 13175 (Tribal Implications), 13211 (Energy Effects), and 12898 (Environmental Justice).

A copy of the revised economic analysis, Economic Analysis for the Renovation, Repair, and Painting Program Proposed Rule (Economic Analysis), is now available in the docket for this action (EPA-HQ-OPPT-2005-0049). In addition to EPA's requests for comment in the proposed rule, EPA is seeking comments on all aspects of the Economic Analysis, including costs, benefits, and baseline assumptions. In particular, EPA requests comment on the studies used to estimate benefits and requests further submission of data or information regarding the estimated benefits of the proposed rule. Additionally, the Agency requests comments and information regarding available data to better estimate the number of small businesses affected by the proposed rule. In determining the number of small businesses affected by the proposed rule, the Agency applied the U.S. Economic Census data to the Small Business Administration's (SBA) definition of small business. However, applying the U.S. Economic Census data requires either under or overestimating the number of small businesses affected by the proposed rule. For example, for many construction establishments the SBA defines small businesses as having revenues of less than $12 million. With respect to those establishments, the U.S. Economic Census data groups all establishments with revenues of $10 million or more into one revenue bracket. On the one hand, using data for the entire industry would overestimate the number of small businesses affected by the proposed rule and would defeat the purpose of estimating impacts on small business. It would also underestimate the proposed rule's impact on small businesses because the impacts would be calculated using the revenues of large businesses in addition to small businesses. On the other hand, applying the closest, albeit lower, revenue bracket would underestimate the number of small businesses affected by the proposed rule while at the same time overestimating the impacts. Comments on the Economic Analysis should be submitted to the docket for the proposed rule. The comment period on the proposed rule (and therefore this Economic Analysis) currently ends on April 10, 2006.

List of Subjects in Part 745

Environmental protection, Housing renovation, Lead, Lead-based paint, Reporting and recordkeeping requirements.

Dated: February 24, 2006.
Susan B. Hazen,
Assistant Administrator, Office of Prevention, Pesticides and Toxic Substances.

[FR Doc. E6-2940 Filed 3-1-06; 8:45 am]

BILLING CODE 6560-50-S